DEPARTMENT OF AGRICULTURE

Forest Service

Notice of Proposed New Fee Sites

AGENCY: Forest Service, Agriculture (USDA).

ACTION: Notice of proposed new fee sites.

SUMMARY: The Beaverhead-Deerlodge National Forest is proposing to charge new fees at 36 recreation sites listed in SUPPLEMENTARY INFORMATION of this notice. Funds from fees would be used for operation, maintenance, and improvements of these recreation sites. An analysis of nearby developed recreation sites with similar amenities shows the proposed fees are reasonable and typical of similar sites in the area.

DATES: If approved, the new fees would be implemented no earlier than six months following the publication of this notice in the Federal Register.

ADDRESSES: Beaverhead—Deerlodge National Forest, 420 Barrett Street, Dillon, MT 59725.

FOR FURTHER INFORMATION CONTACT: Noelle Meier, Recreation Program Manager, 406-683-3932 or r1recfee@fs.fed.us.

SUPPLEMENTARY INFORMATION: The Federal Recreation Lands Enhancement Act (Title VII, Pub. L. 108-447) directed the Secretary of Agriculture to publish a six-month advance notice in the Federal Register whenever new recreation fee areas are established. The fees are only proposed at this time and will be determined upon further analysis and public comment. Reasonable fees, paid by users of these sites, will help ensure that the Forest can continue maintaining and improving recreation sites like this for future generations.

As part of this proposal, the Canyon Creek, Cottonwood, Crystal Creek, Mill Creek, North Van Houten, Pintler, Potosi, Seymour Creek, South Van Houten, and Steel Creek campgrounds are proposed at $12 per night, with an additional $5 extra vehicle fee per night. Bear Creek, Branham Lakes, Copper Creek, East Creek, East Fork, Flint Creek, Grand Vista, Racetrack, Spillway, Stony, and Whitehouse campgrounds are proposed at $15 per night, with an additional $5 extra vehicle fee per night. A $15 for single site, a $30 for double site, and a $5 extra vehicle fee per night is proposed at Dinner Station Campground. A $50 per night fee is proposed for Copper Creek Group Campsite. In addition, this proposal would implement new fees at six recreation rentals: Landon, Mill Creek Rider, and Whitetail Cabins proposed at $45 per night; Divide Cabin proposed at $55 per night; Wall Creek Ranger Cabin proposed at $65 per night; and Springhill Cabin proposed at $75 per night. A $5 day-use fee per vehicle is proposed at Cliff Point, Delmoe Lake, Grassy Point, Philipsburg Bay, Piney, Red Bridge, and Wade Lake. The full suite of Interagency passes would be honored.

New fees would provide increased visitor opportunities, as well as increased staffing to address operations and maintenance needs and enhance customer service. Once public involvement is complete, these new fees will be reviewed by a Recreation Resource Advisory Committee prior to a final decision and implementation.

Advanced reservations for campgrounds and cabins will be available through www.recreation.gov or by calling 1-877-444-6777. The reservation service charges an $8.00 fee for reservations.

Dated: December 27, 2021.
Sandra Watts,
Acting Associate Deputy Chief, National Forest System.

[FR Doc. 2021-28392 Filed 12-30-21; 8:45 am]

BILLING CODE 3411-15-P